DEPARTMENT OF THE INTERIOR

Bureau of Land Management

[15XL LLIDI02000.L71220000.EO0000. LVTFD0975750 241A 4500077602; IDI-36468]

Notice of Intent To Amend the Pocatello Resource Management Plan and Notice of Realty Action: Segregation of Land for a Proposed Non-Competitive (Direct) Sale of Public Land in Caribou County, Idaho

AGENCY: Bureau of Land Management, Interior.

ACTION: Notice of Intent and Notice of Realty Action.

SUMMARY: This notice provides for two related actions involving 1,142.10 acres of public land in Caribou County, Idaho, one a proposed land use plan amendment and the other a proposed direct land sale. In compliance with the National Environmental Policy Act of 1969, as amended (NEPA), and the Federal Land Policy and Management Act of 1976 (FLPMA), as amended, the Bureau of Land Management (BLM) Pocatello Field Office intends to prepare a resource management plan (RMP) amendment for the 2012 Pocatello RMP with an associated environmental impact statement (EIS) being prepared for a mine and reclamation plan for the proposed Dairy Syncline phosphate mine. This notice announces the beginning of the scoping process to solicit public comments and identify issues specific to the plan amendment. As part of proposed phosphate mine development, two parcels of public land in Caribou County, Idaho, are being considered for a direct sale under the provisions of FLPMA Section 203 at no less than the appraised fair market value.

DATES: This notice initiates the public scoping process for the RMP amendment, which will be evaluated in the EIS associated with the proposed mine plan. Comments on issues specific to the public land sale RMP amendment may be submitted in writing until September 9, 2015. The date(s) and location(s) of any scoping meetings will be announced at least 15 days in advance through local news media, newspapers and the BLM Web site at: http://www.blm.gov/id. In order to be included in the analysis, all comments must be received prior to the close of the 30-day scoping period or 15 days after the last public meeting, whichever is later. We will provide additional opportunities for public participation as appropriate.

ADDRESSES: You may submit comments on issues and planning criteria related to the RMP amendment and proposed sale by any of the following methods:

• Web site: http://www.blm.gov/id/st/en/prog/nepa_register/dairy_syncline_mine.html

• email: blm_id_dairysynclineEIS@blm.gov

• fax: 208-478-6376

• mail: BLM Pocatello Field Office, ATTN: Dairy Syncline EIS, 4350 Cliff Drive, Pocatello, Idaho 83401.

Documents pertinent to this proposal may be examined at the Pocatello Field Office. Please reference “Pocatello RMP Amendment/Notice of Realty Action: Proposed Sale of Public Lands” on all correspondence.

FOR FURTHER INFORMATION CONTACT: Gloria Jakovac, Planning and Environmental Coordinator, 1405 Hollipark Drive, Idaho Falls, Idaho 83401; phone 208-524-7526; email: blm_id_dairysynclineEIS@blm.gov. Contact Ms. Jakovac to have your name added to our mailing list. Persons who use a telecommunications device for the deaf (TDD) may call the Federal Information Relay Service (FIRS) at 1-800-877-8339 to contact the above individual during normal business hours. The FIRS is available 24 hours a day, 7 days a week, to leave a message or question with Ms. Jakovac. You will receive a reply during normal business hours.

SUPPLEMENTARY INFORMATION: This document provides notice that the BLM Pocatello Field Office, Pocatello, Idaho intends to prepare an RMP amendment in conjunction with the Dairy Syncline Mine Plan EIS and announces the beginning of the scoping process seeking input on issues and planning criteria specific to the RMP amendment. The purpose of the proposed RMP amendment is to evaluate whether the 1,142.10 acres of public lands proposed for sale as part of the Dairy Syncline Mine Plan, which are identified as eligible for disposal in the 2012 Pocatello RMP, meet one or more of FLPMA's Section 203 sales criteria. The proposed land sale would accommodate a tailings pond that is a component of the mine and reclamation plan required for developing existing Federal phosphate leases.

Amending the Pocatello RMP as proposed would not increase the number of acres previously identified in the RMP as eligible for disposal. It would merely clarify that the 1,142.10 acres of public lands described above meet Section 203 sale criteria, thereby allowing consideration of the proposed sale to continue. In addition, the RMP amendment would not change the BLM's ability to dispose of public lands in Land Tenure Adjustment Zone 3 (as defined in the 2012 Pocatello RMP) through exchange, Recreation & Public Purposes Act leases or other means of conveyance, or to retain them. A separate RMP amendment, detailed analysis and Notice of Realty Action would be required for any subsequent sales proposed for public lands within Zone 3. Sale of the parcel described above will not proceed before completion of the Dairy Syncline EIS.

The following described public lands in Caribou County, Idaho, would be affected by the RMP amendment and will be considered for sale under the authority of FLPMA if they meet one or more of the sales criteria in Section 203:

Boise Meridian, Idaho

T. 9 S., R. 44 E.,

Sec. 6, lots 3 thru 7, inclusive, SW¼NE¼, SE¼NW¼, E½SW¼, SE¼;

Sec. 7, lot 1, NE¼, E½NW¼, SE¼;

Sec. 17, lots 1 and 2, S½NE¼.

The area described contains 1,142.10 acres.

In addition to initiating scoping for this RMP amendment, this notice also segregates the parcels from appropriation under the public land laws, including the mining laws, during the development of the EIS analyzing the Dairy Syncline Mine Plan and RMP amendment. Conveyance of the sale parcels would be subject to valid existing rights and encumbrances of records, including but not limited to, rights-of-way for roads and public utilities. Conveyance of any mineral interest pursuant to Section 209 of FLPMA will be analyzed during processing of the proposed sale. The patent would include an appropriate indemnification clause protecting the United States from claims arising out of the patentee's use, occupancy or occupations of the patented lands.

On August 10, 2015, the above-described parcels for sale will be segregated from appropriation under the public land laws, including the United States mining laws, except the sale provisions of FLPMA. The segregation of the public lands being considered for sale will be for a period of two years. Until completion of the sale or termination of consideration of the sale, the BLM is no longer accepting land use applications affecting the identified public land, except applications for the amendment of previously-filed rights-of-way applications or existing authorizations to increase the term of the grants in accordance with 43 CFR 2807.15 and 2886.15. The segregative effect will terminate upon issuance of a patent, publication in the Federal Register of a termination of the segregation, or August 10, 2017, unless extended by the BLM State Director in accordance with 43 CFR 2711.1-2(d) prior to the termination date.

The subject public lands are included in Land Tenure Adjustment Zone 3 of the approved 2012 Pocatello RMP. The RMP identified approximately 141,000 acres of public lands within Zone 3 as potentially suitable for disposal by exchange; however, disposal of land through sales and Recreation & Public Purposes Act (R&PP) patents would also be allowed. The RMP did not identify which of those lands in Zone 3 meet FLPMA Section 203 sale criteria.

The purpose of the public scoping process is to determine relevant issues that will influence the scope of the RMP amendment, including alternatives, and guide the RMP amendment process. A preliminary issue identified by BLM personnel; Federal, State, and local agencies; and other stakeholders is to identify whether the subject lands currently designated as eligible or potentially eligible for disposal also meet FLPMA Section 203 sale criteria (43 U.S.C. 1713(a)). The Pocatello RMP identifies approximately 141,000 acres of public land in Zone 3 as available for disposal. However, the RMP does not specify whether those lands have been evaluated under FLPMA Section 203. Issues communicated to the BLM in response to this notice that are related to the direct or indirect impacts of the proposed sale or related future land issues will be considered and appropriately addressed in the Dairy Syncline Mine EIS, the notice of intent for which was published in the Federal Register on April 13, 2010 (70 FR 18875).

Comments may also be submitted regarding the planning criteria. Preliminary planning criteria include:

1. The RMP amendment will only address whether the identified public lands, already designated as eligible for disposal (1,142.10 acres in Caribou County, Idaho), meet FLPMA's Section 203 sale criteria. No other decisions associated with the Pocatello RMP will be amended.

2. The RMP amendment will comply with FLPMA, NEPA, and all other applicable laws, regulations, and policies.

3. For program-specific guidance for decisions at the land use planning level, the process will follow the BLM's policies in the Land Use Planning Handbook, H-1601-1.

4. Public participation and collaboration will be an integral part of the planning process.

5. The BLM will strive to make decisions in the RMP amendment compatible with existing plans and policies of adjacent local, State, and Federal agencies and affected Native American tribes, as long as the decisions are consistent with the purposes, policies, and programs of Federal law and regulations applicable to public lands.

6. The BLM will work collaboratively with cooperating agencies and all other interested groups, agencies, and individuals.

The public is invited to provide scoping comments on the above mentioned issue, as well as other issues that should be addressed in the preparation of the plan amendment or proposed sales.

You may submit comments on issues and planning criteria in writing to the BLM using one of the methods listed in the ADDRESSES section above. To be most helpful, you should submit comments by the close of the 30-day scoping period.

The BLM will use and coordinate the NEPA scoping process to help fulfill the public involvement requirements under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed sale of the subject public lands being evaluated are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment;

2. Issues to be resolved through policy or administrative action; or

3. Issues beyond the scope of this plan amendment.

The BLM will provide an explanation in the Proposed RMP Amendment as to why an issue was placed in category two or three. The public is also encouraged to help identify any management questions and concerns that should be addressed in the RMP amendment. The BLM will work collaboratively with interested parties to identify the management decisions that are best suited to local, regional, and national needs and concerns.

The BLM will use an interdisciplinary approach to develop the RMP amendment in order to consider the variety of resource issues and concerns identified. Specialists with expertise in the following disciplines will be involved in the planning process: Minerals and geology, forestry, outdoor recreation, archaeology, wildlife and fisheries, lands and realty, hydrology, soils, and socioeconomics.

Authority: 43 CFR 2711.1-2, 40 CFR 1501.7 and 43 CFR 1610.2

Timothy M. Murphy,
BLM Idaho State Director.

[FR Doc. 2015-19606 Filed 8-7-15; 8:45 am]

BILLING CODE 4310-GG-P